NUCLEAR REGULATORY COMMISSION

[NRC-2019-0028]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from December 29, 2018, to January 14, 2019. The last biweekly was published on January 2, 2019 (84 FR 20). Due to the Federal government shutdown, there was no biweekly publication on January 15, 2019.

DATES: Comments must be filed by March 1, 2019. A request for a hearing must be filed by April 1, 2019.

ADDRESSES: You may submit comments by any of the following methods:

• Federal Rulemaking website: Go to http://www.regulations.gov and search for NRC-2019-0028. Address questions about Docket IDs in Regulations.gov to Krupskaya Castellon; telephone: 301-287-9221; email: Krupskaya.Castellon@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001; telephone: 301-415-2242, email: Paula.Blechman@nrc.gov.

SUPPLEMENTARY INFORMATION:

I. Obtaining Information and Submitting Comments

A. Obtaining Information

Please refer to Docket ID NRC-2019-0028 facility name, unit number(s), plant docket number, application date, and subject when contacting the NRC about the availability of information for this action. You may obtain publicly-available information related to this action by any of the following methods:

• Federal Rulemaking website: Go to http://www.regulations.gov and search for Docket ID NRC-2019-0028.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0028 facility name, unit number(s), plant docket number, application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at http://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d), the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at http://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at http://www.nrc.gov/site-help/e-submittals/getting-started.html. Once a participant has obtained a digital ID certificate and a docket has been created, the participant can then submit adjudicatory documents. Submissions must be in Portable Document Format (PDF). Additional guidance on PDF submissions is available on the NRC's public website at http://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at http://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click cancel when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Duke Energy Progress, LLC, Docket Nos. 50-325 and 50-324, Brunswick Steam Electric Plant, Units 1 and 2, Brunswick County, North Carolina

Date of amendment request: October 11, 2018, as supplemented by letter dated November 28, 2018. Publicly-available versions are in ADAMS under Accession Nos. ML18284A395 and ML18333A029, respectively.

Description of amendment request: The amendments would revise the technical specifications to support and allow application of Advanced Framatome Methodologies for determining core operating limits in support of loading Framatome fuel type ATRIUM 11.

Basis for proposed no significant hazards consideration determination: As required by 10 CFR 50.91(a), the licensee has provided its analysis of the issue of no significant hazards consideration, which is presented below:

1. Does the proposed change involve a significant increase in the probability or consequences of an accident previously evaluated?

Response: No.

The probability of an evaluated accident is derived from the probabilities of the individual precursors to that accident. The proposed amendments revise the list of NRC-approved analytical methods used to establish core operating limits. The change does not require any physical plant modifications, physically affect any plant components, or entail changes in plant operation. Since no individual precursors of an accident are affected, the proposed amendments do not increase the probability of a previously analyzed event.

The consequences of an evaluated accident are determined by the operability of plant systems designed to mitigate those consequences. The proposed amendments revise the list of NRC-approved analytical methods used to establish core operating limits. The changes in methodology do not alter the assumptions of accident analyses. Based on the above, the proposed amendments do not increase the consequences of a previously analyzed accident.

Therefore, the proposed amendments do not involve a significant increase in the probability or consequences of an accident previously evaluated.

2. Does the proposed change create the possibility of a new or different kind of accident from any accident previously evaluated?

Response: No.

Creation of the possibility of a new or different kind of accident requires creating one or more new accident precursors. New accident precursors may be created by modifications of plant configuration, including changes in allowable modes of operation. The proposed amendments revise the list of NRC-approved analytical methods used to establish core operating limits. The proposed amendments do not involve any plant configuration modifications or changes to allowable modes of operation thereby ensuring no new accident precursors are created.

Therefore, the proposed amendments do not create the possibility of a new or different kind of accident from any accident previously evaluated.

3. Does the proposed change involve a significant reduction in a margin of safety?

Response: No.

The proposed amendments revise the list of NRC-approved analytical methods used to establish core operating limits. The proposed change will ensure that the current level of fuel protection is maintained by continuing to ensure that the fuel design safety criteria are met.

Therefore, the proposed amendments do not result in a significant reduction in the margin of safety.

The NRC staff has reviewed the licensee's analysis and, based on this review, it appears that the three standards of 10 CFR 50.92(c) are satisfied. Therefore, the NRC staff proposes to determine that the amendment request involves no significant hazards consideration.

Attorney for licensee: Kathryn B. Nolan, Deputy General Counsel, 550 South Tryon St., M/C DEC45A, Charlotte, NC 28202.

NRC Branch Chief: Undine Shoop.

Entergy Louisiana, LLC, and Entergy Operations, Inc. (Entergy), Docket No. 50-458, River Bend Station, Unit 1 (RBS), West Feliciana Parish, Louisiana

Date of amendment request: November 29, 2018. A publicly-available version is in ADAMS under Accession No. ML18333A194.

Description of amendment request: The amendment would revise the RBS Technical Specifications (TS) to remove the table of contents (TOC) from the TS and place it under the licensee's control. The TOC would not be eliminated, but would no longer be in the TS, and therefore, maintenance and updates would be Entergy's responsibility.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment is administrative and affects control of a document, the TOC, listing the specifications in the plant TS. Transferring control from the NRC to Entergy does not affect the operation, physical configuration, or function of plant equipment or systems. The proposed amendment does not impact the initiators or assumptions of analyzed events; nor does it impact the mitigation of accidents or transient events. Therefore, the proposed amendment does not involve a significant increase in the probability or consequences of an accident previously evaluated.

2. Does the proposed amendment create the possibility of a new or different kind of accident from any accident previously evaluated?

Response: No.

The proposed change is administrative and does not alter the plant configuration, require installation of new equipment, alter assumptions about previously analyzed accidents, or impact the operation or function of plant equipment or systems. Therefore, the proposed change does not create the possibility of a new or different kind of accident from any accident previously evaluated.

3. Does the proposed amendment involve a significant reduction in a margin of safety?

Response: No.

The proposed amendment is administrative. The TOC is not required by regulation to be in the TS. Removal does not impact any safety assumptions or have the potential to reduce a margin of safety. The proposed amendment involves a transfer of control of the TOC from the NRC to Entergy. No change in the technical content of the TS is involved. Consequently, transfer from the NRC to Entergy has no impact on the margin of safety. Therefore the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Anna Vinson Jones, Senior Counsel—Entergy Services, Inc., 101 Constitution Avenue NW, Suite 200 East, Washington, DC 20001.

NRC Branch Chief: Robert J. Pascarelli.

Exelon FitzPatrick, LLC and Exelon Generation Company, LLC, Docket No. 50-333, James A. FitzPatrick Nuclear Power Plant, Oswego County, New York

Date of amendment request: November 29, 2018. A publicly available version is in ADAMS under Accession No. ML18333A206.

Description of amendment request: The amendment would revise the James A. FitzPatrick Nuclear Power Plant Technical Specifications to remove the Ultimate Heat Sink (UHS) Bar Rack Heaters from the UHS operability requirements.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes have been evaluated to determine the effect on the ability of the UHS to mitigate the consequences as previously evaluated. The resulting evaluation determined that the ability of the UHS to mitigate the consequences of an accident previously evaluated is not reduced by this change. The consequences of an accident previously evaluated with a subsequent loss of the Bar Rack Heaters are no different than the consequences of an accident with the Bar Rack Heaters available and in service. As a result, the consequences of an accident previously evaluated are not significantly increased.

Therefore, the proposed changes do not involve a significant increase in the probability or consequences of an accident previously evaluated.

2. Does the proposed amendment create the possibility of a new or different kind of accident from any accident previously evaluated?

Response: No.

The proposed change does not alter the protection system design, create new failure modes, or change any modes of operation. The proposed change does not involve a physical alteration of the plant; and no new or different kind of equipment will be installed. Consequently, there are no new initiators that could result in a new or different kind of accident.

Therefore, the proposed changes do not create the possibility of a new or different kind of accident from any accident previously evaluated.

3. Does the proposed amendment involve a significant reduction in a margin of safety?

Response: No.

The proposed changes remove the requirement of a support system to be operable to maintain operability of the Ultimate Heat Sink. The Ultimate Heat Sink is required to provide a source of cooling water for the purpose of long term decay heat removal. Based on Engineering Analysis, there is adequate flow area available, with or without the deicing heaters in service, to provide adequate flow for this purpose. The removal of the Bar Rack Heaters does not significantly impact the ability of the UHS to provide adequate flow of cooling water for decay heat removal. Therefore, the safety function of the Ultimate Heat Sink is not affected.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Donald P. Ferraro, Assistant General Counsel, Exelon Generation Company, LLC, 200 Exelon Way, Suite 305, Kennett Square, PA 19348.

NRC Branch Chief: James G. Danna.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Exelon Generation Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC and Exelon FitzPatrick, LLC, Docket No. 50-333, James A. FitzPatrick Nuclear Power Plant, Oswego County, New York

Exelon Generation Company, LLC, Docket Nos. 50-373 and 50-374, LaSalle County Station, Units 1 and 2, LaSalle County, Illinois

Exelon Generation Company, LLC, Docket Nos. 50-254 and 50-265, Quad Cities Nuclear Power Station, Units 1 and 2, Rock Island County, Illinois

Date of amendment request: November 1, 2018. A publicly-available version is in ADAMS under Accession No. ML18305B401.

Description of amendment request: The proposed amendments would revise the technical specifications (TS) for these facilities to eliminate secondary completion times. The proposed changes are based on Technical Specifications Task Force (TSTF) traveler TSTF-439, Revision 2, “Eliminate Second Completion Times Limiting Time from Discovery of Failure to Meet an LCO [Limiting Condition for Operation]” (ADAMS Accession No. ML051860296). The proposed amendments would also make other administrative changes.

Basis for proposed no significant hazards consideration determination: As required by 10 CFR 50.91(a), the licensee has provided its analysis of the issue of no significant hazards consideration, which is presented below:

1. Does the proposed change involve a significant increase in the probability or consequences of an accident previously evaluated?

Response: No.

The proposed change eliminates certain Completion Times from the TS. Completion Times are not an initiator to any accident previously evaluated. Additionally, the administrative change will delete one obsolete footnote associated with a temporary one-time license amendment that is no longer applicable. As a result, the probability of an accident previously evaluated is not affected. The consequences of an accident during the revised Completion Time are no different than the consequences of the same accident during the existing Completion Times. As a result, the consequences of an accident previously evaluated are not affected by this change. The proposed change does not alter or prevent the ability of [systems, structures, and components] from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences.

Therefore, the proposed change does not involve a significant increase in the probability or consequences of an accident previously evaluated.

2. Does the proposed change create the possibility of a new or different kind of accident from any accident previously evaluated?

Response: No.

The proposed change does not involve a physical alteration of the plant (i.e., no new or different type of equipment will be installed) or a change in the methods governing normal plant operation. The proposed change does not alter any assumptions made in the safety analysis.

Therefore, the proposed change does not create the possibility of a new or different kind of accident from any previously evaluated.

3. Does the proposed change involve a significant reduction in a margin of safety?

Response: No.

The proposed change to delete the second Completion Time and the administrative change to delete the obsolete footnote does not alter the manner in which safety limits, limiting safety system settings or limiting conditions for operation are determined. The safety analysis acceptance criteria are not affected by this change. The proposed change will not result in plant operation in a configuration outside of the design basis.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Tamra Domeyer, Associate General Counsel, Exelon Generation Company, LLC, 4300 Winfield Road, Warrenville, IL 60555.

NRC Branch Chief: David J. Wrona.

Exelon Generation Company, LLC, Docket Nos. 50-317 and 50-318, Calvert Cliffs Nuclear Power Plant, Units 1 and 2, Calvert County, Maryland

Date of amendment request: November 28, 2018, as supplemented by letter dated November 29, 2018. Publicly-available versions are in ADAMS under Accession Nos. ML18333A022 and ML18337A038, respectively.

Description of amendment request: The amendments would allow the implementation of risk-informed categorization and treatment of structures, systems, and components.

Basis for proposed no significant hazards consideration determination: As required by 10 CFR 50.91(a), the licensee has provided its analysis of the issue of no significant hazards consideration, which is presented below:

1. Does the proposed change involve a significant increase in the probability or consequences of an accident previously evaluated?

Response: No.

The proposed change will permit the use of a risk-informed categorization process to modify the scope of Structures, Systems and Components (SSCs) subject to Nuclear Regulatory Commission (NRC) special treatment requirements and to implement alternative treatments per the regulations. The process used to evaluate SSCs for changes to NRC special treatment requirements and the use of alternative requirements ensures the ability of the SSCs to perform their design function. The potential change to special treatment requirements does not change the design and operation of the SSCs. As a result, the proposed change does not significantly affect any initiators to accidents previously evaluated or the ability to mitigate any accidents previously evaluated. The consequences of the accidents previously evaluated are not affected because the mitigation functions performed by the SSCs assumed in the safety analysis are not being modified. The SSCs required to safely shut down the reactor and maintain it in a safe shutdown condition following an accident will continue to perform their design functions.

Therefore, the proposed change does not involve a significant increase in the probability or consequences of an accident previously evaluated.

2. Does the proposed change create the possibility of a new or different kind of accident from any accident previously evaluated?

Response: No.

The proposed change will permit the use of a risk-informed categorization process to modify the scope of SSCs subject to NRC special treatment requirements and to implement alternative treatments per the regulations. The proposed change does not change the functional requirements, configuration, or method of operation of any SSC. Under the proposed change, no additional plant equipment will be installed.

Therefore, the proposed change does not create the possibility of a new or different kind of accident from any accident previously evaluated.

3. Does the proposed change involve a significant reduction in a margin of safety?

Response: No.

The proposed change will permit the use of a risk-informed categorization process to modify the scope of SSCs subject to NRC special treatment requirements and to implement alternative treatments per the regulations. The proposed change does not affect any Safety Limits or operating parameters used to establish the safety margin. The safety margins included in analyses of accidents are not affected by the proposed change. The regulation requires that there be no significant effect on plant risk due to any change to the special treatment requirements for SSCs and that the SSCs continue to be capable of performing their design basis functions, as well as to perform any beyond design basis functions consistent with the categorization process and results.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Generation Company, LLC, 4300 Winfield Road, Warrenville, IL 60555.

NRC Branch Chief: James G. Danna.

FirstEnergy Nuclear Operating Company (FENOC), et al., Docket No. 50-346, Davis-Besse Nuclear Power Station, Unit No. 1 (DBNPS), Ottawa County, Ohio

Date of amendment request: October 22, 2018. A publicly-available version is in ADAMS under Accession No. ML18295A289.

Description of amendment request: The licensee proposes to change the technical specifications (TSs) for DBNPS to permit changes in plant operations when the plant is permanently defueled. Specifically, the licensee proposes to revise the TSs to support the implementation of the certified fuel handler and non-certified operator positions. In addition, certain organization, staffing, and training requirements in the TSs will be revised. The proposed amendment would also make other administrative changes.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would not take effect until DBNPS has permanently ceased operation and entered a permanently defueled condition and the FENOC Certified Fuel Handler Training and Retraining Program is approved by the NRC. The proposed amendment would revise the DBNPS TS by deleting or modifying certain portions of the TS administrative controls described in Section 5.0 that are no longer applicable to a permanently shutdown and defueled facility. In addition, the terms CERTIFIED FUEL HANDLER and NON-CERTIFIED OPERATOR would be added to Section 1.1 to define these positions that are applicable to permanently shutdown and defueled facility.

The deletion and modification of provisions of the administrative controls do not directly affect the design of structures, systems, and components (SSCs) necessary for safe storage of irradiated fuel or the methods used for handling and storage of such fuel in the spent fuel pool. The changes to the administrative controls are administrative in nature and do not affect any accidents applicable to the safe management of irradiated fuel or the permanently shutdown and defueled condition of the reactor. Thus, the consequences of an accident previously evaluated are not increased.

In a permanently defueled condition, it is expected that the only credible accidents are the fuel handling accident (FHA) and those involving radioactive waste systems remaining in service. The probability of occurrence of previously evaluated accidents is not increased because extended operation in a defueled condition will be the only operation allowed. This mode of operation is bounded by the existing analyses. In addition, the occurrence of postulated accidents associated with reactor operation is no longer credible in a permanently defueled reactor. This significantly reduces the scope of applicable accidents.

Therefore, the proposed change does not involve a significant increase in the probability or consequences of an accident previously evaluated.

2. Does the proposed amendment create the possibility of a new or different kind of accident from any accident previously evaluated?

Response: No.

The proposed amendment has no impact on facility SSCs affecting the safe storage of irradiated fuel, or on the methods of operation of such SSCs, or on the handling and storage of irradiated fuel itself. The administrative removal or modifications of the TS that are related only to administration of the facility cannot result in different or more adverse failure modes or accidents than previously evaluated because the reactor will be permanently shutdown and defueled, and DBNPS will no longer be authorized to operate the reactor or retain or place fuel in the reactor vessel.

The proposed amendment to the DBNPS TS does not affect systems credited in the accident analysis for the FHA or radioactive waste system upsets at DBNPS. The proposed TS will continue to require proper control and monitoring of safety significant parameters and activities. The proposed amendment does not result in any new mechanisms that could initiate damage to the remaining relevant safety barriers for defueled plants (fuel cladding and spent fuel pool cooling). Extended operation in a defueled condition will be the only operation allowed, and it is bounded by the existing analyses, therefore such a condition does not create the possibility of a new or different kind of accident.

The proposed amendment does not involve any physical alterations to the facility.

Therefore, the proposed change does not create the possibility of a new or different kind of accident from any accident previously evaluated.

3. Does the proposed amendment involve a significant reduction in a margin of safety?

Response: No.

Because the 10 CFR 50 license for DBNPS will no longer authorize operation of the reactor or emplacement or retention of fuel into the reactor vessel once the certifications required by 10 CFR 50.82(a)(1) are docketed, as specified in 10 CFR 50.82(a)(2), the occurrence of postulated accidents associated with reactor operation is no longer credible. The only remaining credible accidents are a FHA and those involving radioactive waste systems remaining in service. The proposed amendment does not adversely affect the inputs or assumptions of any of the design basis analyses that impact these analyzed conditions.

The proposed changes are limited to those portions of the TS that are not related to the SSCs that are important to the safe storage of spent nuclear fuel. The requirements that are proposed to be added, revised, or deleted from the DBNPS TS are not credited in the existing accident analysis for the remaining applicable postulated accidents; and, therefore, do not contribute to the margin of safety associated with the accident analysis. Postulated design basis accidents involving the reactor are no longer possible because the reactor will be permanently shutdown and defueled, and DBNPS will no longer be authorized to operate the reactor or retain or place fuel in the reactor vessel.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Rick Giannantonio, General Counsel, FirstEnergy Corporation, Mail Stop A-GO-15, 76 South Main Street, Akron, OH 44308.

NRC Branch Chief: David J. Wrona.

South Carolina Electric & Gas Company, South Carolina Public Service Authority, Docket No. 50-395, Virgil C. Summer Nuclear Station, Unit No. 1, Fairfield County, South Carolina

Date of amendment request: December 12, 2018. A publicly-available version is in ADAMS under Accession No. ML18346A595.

Description of amendment request: The proposed amendment would remove an expired one-time extension to Technical Specification Surveillance Frequency 4.3.3.6, which describes the Surveillance Requirements for the Accident Monitoring Instrumentation. Additionally, this proposed change will remove the Index from the Technical Specifications and place them under licensee control.

Basis for proposed no significant hazards consideration determination: As required by 10 CFR 50.91(a), the licensee has provided its analysis of the issue of no significant hazards consideration, which is presented below:

1. Does the proposed amendment involve a significant increase in the probability or consequences of an accident previously evaluated?

Response: No.

This LAR [license amendment request] proposes administrative non-technical changes only. These proposed changes do not adversely affect accident initiators or precursors nor alter the design assumptions, conditions, or configurations of the facility. The proposed changes do not alter or prevent the ability of structures, systems and components (SSCs) to, perform their intended function to mitigate the consequences of an initiating event within the assumed acceptance limits.

Therefore, it is concluded the proposed amendment does not significantly increase the probability or consequences of an accident previously evaluated.

2. Does the proposed amendment create the possibility of a new or different kind of accident from any accident previously evaluated?

Response: No.

This LAR proposes administrative non-technical changes only. The proposed changes will not alter the design requirements of any Structure, System or Component (SSC) or its function during accident conditions. No new or different accidents result from the proposed changes. The changes do not involve a physical alteration of the plant or any changes in methods governing normal plant operation. The changes do not alter assumptions made in the safety analysis.

Therefore, it is concluded the proposed amendment does not create the possibility of a new or different kind of accident from any accident previously evaluated.

3. Does the proposed amendment involve a significant reduction in a margin of safety?

Response: No.

This LAR proposes administrative non-technical changes only. The proposed changes do not alter the manner in which safety limits, limiting safety system settings or limiting conditions for operation are determined. The safety analysis acceptance criteria are not affected by these changes. The proposed changes will not result in plant operation in a configuration outside the design basis. The proposed changes do not adversely affect systems that respond to safely shutdown the plant and to maintain the plant in a safe shutdown condition.

Therefore, it is concluded the proposed amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: Kathryn M. Sutton, Morgan, Lewis & Bockius LLP, 1111 Pennsylvania Avenue NW, Washington, DC 20004.

NRC Branch Chief: Michael T. Markley.

Southern Nuclear Operating Company, Inc., Docket Nos. 50-348 and 50-364, Joseph M. Farley Nuclear Plant (FNP), Units 1 and 2, Houston County, Alabama.

Date of amendment request: November 29, 2018. A publicly-available version is in ADAMS under Accession No. ML18333A350.

Description of amendment request: The proposed amendments would revise certain Technical Specifications (TSs) to remove the requirements for engineered safety feature (ESF) systems to be operable after sufficient radioactive decay of irradiated fuel has occurred following a plant shutdown; revise certain TSs actions that are not needed to mitigate accidents postulated during shutdown; revise the licensing basis to Fuel Handing Accident (FHA) analysis; partially adopt Standard Technical Specifications (STS) Change Traveler Technical Specifications Task Force (TSTF)-51-A, “Revise Containment Requirements During Handling Irradiated Fuel and Core Alterations,” Revision 2; and, partially adopt STS Change Traveler TSTF-471-A, “Eliminate Use Of Term CORE ALTERATIONS in ACTIONS and Notes,” Revision 1.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment does not affect accident initiators or precursors nor adversely alter the design assumptions, conditions, and configuration of the facility. The proposed amendment does not alter any plant equipment or operating practices with respect to such initiators or precursors in a manner that the probability of an accident is increased.

The proposed amendment does not involve a physical change to the containment or spent fuel area systems, nor does it change the safety function of the containment, containment purge and exhaust ventilation system, or PRF [penetration room filtration] system, or associated instrumentation. The subject ESF systems are not assumed in the mitigation of an FHA after sufficient radioactive decay of irradiated fuel has occurred. The revised FHA dose analysis shows that MCR [main control room] dose remains below the 10 CFR 50.67(b)(2)(iii) dose limit and off-site dose remains below the accident dose limit specified in the NRC SRP [standard review plan], which represents a small fraction of the 10 CFR 50.67 dose limits.

Elimination of the action to suspend core alterations in the event boron concentration is not within the required limit in refueling condition does not alter the initiation or consequences of a boron dilution event and the required actions continue to prohibit positive reactivity additions until reactor core shutdown margin can be restored to within the required limit.

Permitting fuel assemblies, sources, and reactivity control components to be moved to restore an inoperable source range neutron flux monitor to operable status when one or more required source range neutron flux monitors are inoperable does not significantly alter the probability or consequences of any previously evaluated refueling accident or transient. The required actions continue to minimize actions that could result in reactivity changes within the core, while providing the ability to safely restore source range neutron monitoring capability.

As a result, the proposed change does not involve a significant increase in the probability or consequences of an accident previously evaluated.

2. Does the proposed change create the possibility of a new or different accident from any accident previously evaluated?

Response: No.

With respect to a new or different kind of accident, there are no proposed design changes to the safety related plant structures, systems, and components (SSCs); nor are there any changes in the method by which safety related plant SSCs perform their specified safety functions. The proposed amendment will not affect the normal method of plant operation or revise any operating parameters. No new accident scenarios, transient precursor, failure mechanisms, or limiting single failures will be introduced as a result of this proposed change and the failure modes and effects analyses of SSCs important to safety are not altered as a result of this proposed change. The proposed amendment does not alter the design or performance of the related SSCs, and, therefore, does not constitute a new type of test.

No changes are being proposed to the procedures that operate the plant equipment and the change does not have a detrimental impact on the manner in which plant equipment operates or responds to an actuation signal.

Therefore, the proposed change will not create the possibility of a new or different accident previously evaluated.

3. Does the proposed change involve a significant reduction in a margin of safety?

Response: No.

The margin of safety is related to the ability of the fission product barriers to perform their design functions during and following an accident. These barriers include the fuel cladding, the reactor coolant system, and the containment.

Instrumentation safety margin is established by ensuring the limiting safety system settings (LSSSs) automatically actuate the applicable design function to correct an abnormal situation before a safety limit is exceeded. Safety analysis limits are established for reactor trip system and ESF actuation system instrumentation functions related to those variables having significant safety functions. The proposed change does not alter the design of these protection systems; nor are there any changes in the method by which safety related plant SSCs perform their specified safety functions.

The proposed amendment does not involve a physical change to the containment or spent fuel area systems, nor does it change the safety function of the containment, containment purge and exhaust ventilation system, or PRF system, or associated instrumentation. The subject ESF systems are not assumed in the mitigation of an FHA after sufficient radioactive decay of irradiated fuel has occurred. The revised FNP FHA dose analysis shows that MCR dose remains below the 10 CFR 50.67(b)(2)(iii) dose limit and off-site dose remains below the accident dose limit specified in the NRC SRP, which represents a small fraction of the 10 CFR 50.67 dose limits.

Elimination of the action to suspend core alterations does not reduce the margin of safety in the event boron concentration is not within the required limit in refueling condition because the remaining required actions continue to prohibit positive reactivity additions until reactor core shutdown margin can be restored to within the required limit.

Permitting fuel assemblies, sources, and reactivity control components to be moved to restore an inoperable source range neutron flux monitor to operable status when one or more required source range neutron flux monitors are inoperable does not significantly reduce the margin of safety. The required actions continue to minimize actions that could result in reactivity changes within the core, while providing the ability to safely restore source range neutron monitoring capability.

The controlling parameters established to isolate or actuate required ESF systems during an accident or transient are not affected by the proposed amendment and no design basis or safety limit is altered as a result of the proposed change. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Millicent Ronnlund, Vice President and General Counsel, Southern Nuclear Operating Company, Inc., P.O. Box 1295, Birmingham, AL 35201-1295.

NRC Branch Chief: Michael T. Markley.

Southern Nuclear Operating Company, Inc., Docket Nos. 52-025 and 52-026, Vogtle Electric Generating Plant Units 3 and 4, Burke County, Georgia

Date of amendment request: November 29, 2018. A publicly-available version is in ADAMS under Accession No. ML18333A337.

Description of amendment request: The requested amendment proposes changes to information in the Updated Final Safety Analysis Report (UFSAR) in the form of departures from plant-specific Tier 1 information, with corresponding changes to the associated Combined License (COL) Appendix C information. Specifically, the requested amendment proposes changes to plant-specific Tier 1 information to clarify that when the Design Commitment or Inspections, Tests, Analyses, and Acceptance Criteria (ITAAC) provides that an item or activity must comply with the American Society of Mechanical Engineers (ASME) Code Section III, this means compliance with the ASME Section III Code, as incorporated by reference in 10 CFR 50.55a with specific conditions, or in accordance with alternatives authorized by the NRC pursuant to 10 CFR 50.55a. Pursuant to the provisions of 10 CFR 52.63(b)(1), an exemption from elements of the design as certified in the 10 CFR part 52, Appendix D, design certification rule is also requested for the plant-specific DCD Tier 1 material departures.

Basis for proposed no significant hazards consideration determination: As required by 10 CFR 50.91(a), the licensee has provided its analysis of the issue of no significant hazards consideration, which is presented below:

1. Does the proposed amendment involve a significant increase in the probability or consequences of an accident previously evaluated?

Response: No.

The proposed change clarifies that when the Design Commitment or ITAAC provides that an item or activity must comply with ASME Code Section III, this means compliance with the ASME Section III Code, as incorporated by reference in 10 CFR 50.55a with specific conditions, or in accordance with alternatives authorized by the NRC pursuant to 10 CFR 50.55a. This change is administrative in nature and consistent with NRC authorized use of alternatives to ASME Section III as allowed by 10 CFR 50.55a. The proposed change does not affect the operation of any of the systems impacted by this change. These systems continue to maintain their structural integrity as evidenced by meeting the ASME Section III requirements or an NRC-authorized alternative in accordance with 10 CFR 50.55a(z).

The proposed change does not affect the operation of any systems or equipment that initiate an analyzed accident or alter any structures, systems, and components (SSCs) accident initiator or initiating sequence of events. Therefore, the probabilities of accidents previously evaluated are not affected.

The proposed change does not affect the prevention and mitigation of other abnormal events (e.g., anticipated operational occurrences, earthquakes, floods, and turbine missiles), or their safety or design analyses. Therefore, the consequences of the accidents evaluated in the UFSAR are not affected.

Therefore, the proposed amendment does not involve a significant increase in the probability or consequences of an accident previously evaluated.

2. Does the proposed amendment create the possibility of a new or different kind of accident from any accident previously evaluated?

Response: No.

The proposed change clarifies that when the Design Commitment or ITAAC provides that an item or activity must comply with ASME Code Section III, this means compliance with the ASME Section III Code, as incorporated by reference in 10 CFR 50.55a with specific conditions, or in accordance with alternatives authorized by the NRC pursuant to 10 CFR 50.55a. This change is administrative in nature and consistent with NRC authorization for use of alternatives to ASME Section III as allowed by 10 CFR 50.55a. The proposed change does not affect the operation of any systems or equipment that may initiate a new or different kind of accident, or alter any SSC such that a new accident initiator or initiating sequence of events is created.

The proposed change does not affect any other SSC design functions or methods of operation in a manner that results in a new failure mode, malfunction, or sequence of events that affect safety-related or nonsafety-related equipment. Therefore, this activity does not allow for a new fission product release path, result in a new fission product barrier failure mode, or create a new sequence of events that result in significant fuel cladding failures.

Therefore, the requested amendment does not create the possibility of a new or different kind of accident from any accident previously evaluated.

3. Does the proposed amendment involve a significant reduction in a margin of safety?

Response: No.

The proposed change clarifies that when the Design Commitment or ITAAC provides that an item or activity must comply with ASME Code Section III, this means compliance with the ASME Section III Code, as incorporated by reference in 10 CFR 50.55a with specific conditions, or in accordance with alternatives authorized by the NRC pursuant to 10 CFR 50.55a. This change is administrative in nature and consistent with NRC authorization for use of alternatives to ASME Section III as allowed by 10 CFR 50.55a. The proposed change does not have any effect on the ability of the safety-related SSCs to perform their design basis functions. These systems continue to maintain their structural integrity as evidenced by meeting the ASME Section III construction requirements or an NRC-authorized alternative to the ASME Section III requirements.

No safety analysis or design basis acceptance limit/criterion is challenged or exceeded by the proposed changes, and no margin of safety is reduced. Therefore, the requested amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North Birmingham, AL 35203-2015.

NRC Branch Chief: Jennifer L. Dixon-Herrity.

Susquehanna Nuclear, LLC, Docket Nos. 50-387 and 50-388, Susquehanna Steam Electric Station, Units 1 and 2, Luzerne County, Pennsylvania

Date of amendment request: December 4, 2018. A publicly-available version is in ADAMS under Accession No. ML18339A002.

Description of amendment request: The amendments would revise Technical Specification (TS) 3.8.3, “Diesel Fuel Oil, Lube Oil, and Starting Air,” Surveillance Requirement 3.8.3.1, by relocating the current stored diesel fuel oil numerical requirements from the TS to the TS Bases so that it may be modified under licensee control. The proposed changes are based on Technical Specifications Task Force (TSTF) Traveler TSTF-501, Revision 1, “Relocate Stored Fuel Oil and Lube Oil Volume Values to Licensee Control,” dated February 20, 2009.

Basis for proposed no significant hazards consideration determination: As required by 10 CFR 50.91(a), the licensee has provided its analysis of the issue of no significant hazards consideration, which is presented below:

1. Does the proposed change involve a significant increase in the probability or consequences of an accident previously evaluated?

Response: No.

The proposed changes revise the TS by removing the current stored diesel fuel oil numerical volume requirements from the TS and replacing them with diesel operating time requirements. The numerical values will be placed in the TS Bases so that they may be modified under licensee control. For Diesel Generators A-D, the specific volume of fuel oil equivalent to a 7 and 6-day supply is calculated using the NRC-approved methodology described in Regulatory Guide (RG) 1.137, Revision 0, “Fuel-Oil Systems for Standby Diesel Generators,” and ANSI [American National Standards Institute]-N195 1976, “Fuel Oil Systems for Standby Diesel-Generators.” For Diesel Generator E, the specific volume of fuel oil is calculated using the NRC-approved methodology described in RG 1.137, Revision 1 and ANSI-N195 1976. Because the requirement to maintain a 7-day supply of diesel fuel oil is not changed and is consistent with the assumptions in the accident analyses, and the actions taken when the volume of fuel oil is less than a 6-day supply have not changed, neither the probability nor the consequences of any accident previously evaluated will be affected.

Therefore, the proposed changes do not involve a significant increase in the probability or consequences of an accident previously evaluated.

2. Does the proposed changes create the possibility of a new or different kind of accident from any accident previously evaluated?

Response: No.

The change does not involve a physical alteration of the plant (i.e., no new or different type of equipment will be installed) or a change in the methods governing normal plant operation. The change does not alter assumptions made in the safety analysis but ensures that the diesel generator operates as assumed in the accident analysis. The proposed change is consistent with the safety analysis assumptions.

Therefore, the proposed change does not create the possibility of a new or different kind of accident from any accident previously evaluated.

3. Does the proposed amendment involve a significant reduction in a margin of safety?

Response: No.

The proposed changes revise the TS by removing the current stored diesel fuel oil numerical volume requirements from the TS and replacing them with diesel operating time requirements. The numerical values will be placed in the TS Bases so that they may be modified under licensee control. As the basis for the existing limits on diesel fuel oil are not changed, no change is made to the accident analysis assumptions and no margin of safety is reduced as part of this change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Associate General Counsel, Talen Energy Supply, LLC, 835 Hamilton St., Suite 150, Allentown, PA 18101.

NRC Branch Chief: James G. Danna.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

DTE Electric Company, Docket No. 50-341, Fermi 2, Monroe County, Michigan

Date of amendment request: March 14, 2018.

Brief description of amendment: The amendment modified the technical specification definition of “Shutdown Margin” (SDM) to require calculation of the SDM at a reactor moderator temperature of 68 degrees Fahrenheit or a higher temperature that represents the most reactive state throughout the operating cycle. This change is needed to address new boiling-water reactor fuel designs, which may be more reactive at shutdown temperatures above 68 degrees Fahrenheit.

Date of issuance: January 7, 2019.

Effective date: As of the date of issuance and shall be implemented within 45 days.

Amendment No.: 213. A publicly-available version is in ADAMS under Accession No. ML18306A451; documents related to this amendment are listed in the Safety Evaluation enclosed with the amendment.

Renewed Facility Operating License No. NPF-43: Amendment revised the Renewed Facility Operating License and Technical Specifications.

Date of initial notice in Federal Register: August 14, 2018 (83 FR 40346).

The Commission's related evaluation of the amendment is contained in a Safety Evaluation dated January 7, 2019.

No significant hazards consideration comments received: No.

Duke Energy Progress, LLC, Docket Nos. 50-325 and 50-324, Brunswick Steam Electric Plant, Units 1 and 2, Brunswick County, North Carolina

Date of amendment request: January 23, 2018.

Brief description of amendments: The amendments revised Technical Specification 3.6.4.1, “Secondary Containment,” Surveillance Requirement 3.6.4.1.2, to allow for the temporary opening of the inner and outer doors of secondary containment for the purpose of entry and exit. The changes are consistent with NRC-approved Technical Specifications Task Force (TSTF) Traveler TSTF-551, Revision 3, “Revise Secondary Containment Surveillance Requirements.”

Date of issuance: January 7, 2019.

Effective date: As of the date of issuance and shall be implemented within 120 days.

Amendment Nos.: 287 (Unit 1) and 315 (Unit 2). A publicly-available version is in ADAMS under Accession No. ML18264A260; documents related to these amendments are listed in the Safety Evaluation enclosed with the amendments.

Renewed Facility Operating License Nos. DPR-71 and DPR-62: The amendments revised the Renewed Facility Operating Licenses and Technical Specifications.

Date of initial notice in Federal Register: June 19, 2018 (83 FR 28458).

The Commission's related evaluation of the amendments is contained in a Safety Evaluation dated January 7, 2019.

No significant hazards consideration comments received: No.

Duke Energy Progress, LLC, Docket Nos. 50-325 and 50-324, Brunswick Steam Electric Plant, Units 1 and 2, Brunswick County, North Carolina

Date of amendment request: January 23, 2018.

Brief description of amendments: The amendments revised the Brunswick Steam Electric Plant, Units 1 and 2, Technical Specifications to adopt Technical Specifications Task Force (TSTF) Traveler TSTF-208, Revision 0, “Extension of Time to Reach Mode 2 in LCO [Limiting Condition for Operation] 3.0.3.”

Date of issuance: January 9, 2019.

Effective date: As of the date of issuance and shall be implemented within 120 days.

Amendment Nos.: 288 and 316. A publicly-available version is in ADAMS under Accession No. ML18291B322; documents related to these amendments are listed in the Safety Evaluation enclosed with the amendments.

Renewed Facility Operating License Nos. DPR-71 and DPR-62: The amendments revised the Renewed Facility Operating Licenses and Technical Specifications.

Date of initial notice in Federal Register: June 19, 2018 (83 FR 28459).

The Commission's related evaluation of the amendments is contained in a Safety Evaluation dated January 9, 2019.

No significant hazards consideration comments received: No.

Exelon Generation Company, LLC, Docket No. 50-461, Clinton Power Station (CPS), Unit No. 1, DeWitt County, Illinois

Date of amendment request: January 9, 2018, as supplemented by letter dated August 29, 2018.

Brief description of amendment: The amendment incorporated a revised alternative source term dose calculation resulting from the removal of a reduction factor credit for dual remote Control Room outside air intakes that had been previously misapplied. The loss-of-coolant accident (LOCA) dose calculation, the subsequent calculation results as described in the CPS Updated Safety Analysis Report, and the affected CPS technical specifications are revised.

Date of issuance: January 3, 2019.

Effective date: As of the date of issuance and shall be implemented within 60 days from the date of issuance.

Amendment No: 221. A publicly-available version is in ADAMS under Accession No. ML18303A313; documents related to the amendment are listed in the related Safety Evaluation enclosed with the amendment.

Facility Operating License No. NPF-62: The amendment revised the Facility Operating License, Technical Specifications, and Licensing Basis.

Date of initial notice in Federal Register: March 13, 2018 (83 FR 10918).

The supplemental letter dated August 29, 2018, provided additional information that clarified the application, did not expand the scope of the application as originally noticed, and did not change the NRC staff's original proposed no significant hazards consideration determination as published in the Federal Register.

The Commission's related evaluation of the amendment is contained in a Safety Evaluation dated January 3, 2019.

No significant hazards consideration comments received: No.

Exelon Generation Company, LLC, Docket Nos. 50-373 and 50-374, LaSalle County Station (LSCS), Units 1 and 2, LaSalle County, Illinois

Date of amendment request: January 24, 2018, as supplemented by letters dated June 11, 2018, and July 16, 2018.

Brief description of amendment: The amendments revised the LSCS Technical Specification (TS) 3.7.2, “Diesel Generator Cooling Water (DGCW) System”; TS 3.8.1, “AC [Alternating Current] Sources-Operating”; and the associated TS Bases to allow an extended period to install isolation valves to support replacing degraded core standby cooling system piping.

The changes modified TS 3.7.2 to include a 7-day Completion Time (CT) when one or more required DGCW subsystem(s) are inoperable. The changes to TS 3.8.1 included a 7-day CT when a Division 2 diesel generator (DG) and the required opposite unit Division 2 DG are inoperable. The changes will only be used during four refueling outages, two for Unit 1 prior to July 1, 2024, and two for Unit 2 prior to July 1, 2023. The current planned schedule for the refueling outages, subject to change, is 2019 and 2021 for Unit 2, and 2020 and 2022 for Unit 1.

Date of issuance: January 2, 2019.

Effective date: As of the date of issuance and shall be implemented within 30 days of issuance.

Amendment No.: Unit 1-233; Unit 2-219. A publicly-available version is in ADAMS under Accession No. ML18311A265; documents related to these amendments are listed in the Safety Evaluation enclosed with the amendments.

Renewed Facility Operating License Nos. NPF-11 and NPF-18: The amendments revised the Renewed Facility Operating Licenses and Technical Specifications.

Date of initial notice in Federal Register: March 13, 2018 (83 FR 10919). The supplemental letters dated June 11, 2018, and July 16, 2018, provided additional information that clarified the application, did not expand the scope of the application as originally noticed, and did not change the staff's original proposed no significant hazards consideration determination as published in the Federal Register.

The Commission's related evaluation of the amendments is contained in a Safety Evaluation dated January 2, 2019.

No significant hazards consideration comments received: No.

Exelon Generation Company, LLC, Docket No. 50-220, Nine Mile Point Nuclear Station, Unit 1, Oswego County, New York

Date of amendment request: February 9, 2018, as supplemented by letter dated August 17, 2018.

Brief description of amendment: The amendment revised the Boraflex credit from the two remaining Boraflex storage racks located in the spent fuel pool. The change eliminates reliance on Boraflex for spent fuel pool reactivity control.

Date of issuance: January 11, 2019.

Effective date: As of the date of issuance and shall be implemented during the spent fuel pool cleanup plan scheduled to begin after the 2019 refuel outage.

Amendment No.: 234. A publicly-available version is in ADAMS under Accession No. ML18344A452; documents related to this amendment are listed in the Safety Evaluation enclosed with the amendment.

Renewed Facility Operating License No. DPR-63: The amendment revised the Renewed Facility Operating License and Technical Specifications.

Date of initial notice in Federal Register: July 3, 2018 (83 FR 31184) and July 10, 2018 (83 FR 31981) (comment date correction from September 3, 2018, to September 4, 2018). The supplemental letter dated August 17, 2018, provided additional information that clarified the application, did not expand the scope of the application as originally noticed, and did not change the NRC staff's original proposed no significant hazards consideration determination as published in the Federal Register.

The Commission's related evaluation of the amendment is contained in a Safety Evaluation dated January 11, 2019.

No significant hazards consideration comments received: No.

NorthStar Nuclear Decommissioning Company, LLC and NorthStar Vermont Yankee, LLC, Docket No. 50-271, Vermont Yankee Nuclear Power Station, Windham County, Vermont

Date of amendment request: February 9, 2017.

Brief description of amendment: The amendment revised Renewed Facility Operating License No. DPR-28 to reflect the direct transfer of the Vermont Yankee Nuclear Power Station (Vermont Yankee) license and the general license for the Vermont Yankee Independent Spent Fuel Storage Installation (ISFSI) from Entergy Nuclear Operations, Inc. to NorthStar Nuclear Decommissioning Company, LLC; the indirect transfer of control of Entergy Nuclear Vermont Yankee, LLC's (ENVY) ownership interests in Vermont Yankee and the Vermont Yankee ISFSI to NorthStar Decommissioning Holdings, LLC, and its parents NorthStar Group Services, Inc., LVI Parent Corp., and NorthStar Group Holdings, LLC; and the name change for ENVY from ENVY to NorthStar Vermont Yankee, LLC.

Date of issuance: January 11, 2019.

Effective date: As of the date of issuance, and shall be implemented within 30 days of issuance.

Amendment No.: 271. A publicly-available version is in ADAMS under Accession No. ML18347B358; documents related to this amendment are listed in the Safety Evaluation enclosed with the letter dated October 11, 2018 (ADAMS Package Accession No. ML18242A638).

Renewed Facility Operating License No. DPR-28: The amendment revised the Renewed Facility Operating License.

Date of initial notice in Federal Register: May 24, 2017 (82 FR 23845).

The Commission's related evaluation of the amendment is contained in the Safety Evaluation dated October 11, 2018.

Dated at Rockville, Maryland, this 25th day of January, 2019.
For the Nuclear Regulatory Commission.
Kathryn M. Brock,
Deputy Director, Division of Operating Reactor Licensing, Office of Nuclear Reactor Regulation.

[FR Doc. 2019-00315 Filed 1-29-19; 8:45 am]

BILLING CODE 7590-01-P